DEPARTMENT OF LABOR

Employment and Training Administration

[TA-W-36,989]

Mobile Energy Services Corporation, Mobile, Alabama; Notice of Negative Determination Regarding Application for Reconsideration

By application dated December 27, 1999, a representative for the company (herein after referred to as the petitioner) requested administrative reconsideration of the Department's negative determination regarding eligibility for workers of the subject firm to apply for worker adjustment assistance. The denial notice applicable to workers of Mobile Energy Services Corporation producing electricity, steam and chemicals in Mobile, Alabama, was signed on November 4, 1999 and published in the Federal Register on December 28, 1999 (64 FR 72691).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The negative TAA determination for workers of the subject firm was issued based on the finding that criterion (3) of Section 222 of the Trade Act of 1974 was not met. Declines in employment at the subject firm were attributed to the closure of the pulp mill to which the subject firm provided the power source. The workers at the pulp mill were certified eligible to apply for TAA.

The petitioner claims that the energy recovery couplex at the plant provided both electricity and steam produced from fuel derived from the pulp operations and provided material to be reused in the paper-making process. As such, the petitioner asserts that the energy recovery was an integrated part of the manufacturing process.

Under the Trade Act of 1974, the Department is required to examine imports of articles like and directly competitive with those produced by the workers of the firm. Workers of Mobile Energy Services Corporation were primarily engaged in the production of steam and electricity. Imports of pulp and paper products or the raw materials used to reproduce these articles cannot be considered like or directly competitive with steam, electricity or the by-product, black-liquor as described by the petitioner.

Conclusion

After review of the application and investigative findings, I conclude that there has been no error or misinterpretation of the law or of the facts which would justify reconsideration of the Department of Labor's prior decision. Accordingly, the application is denied.

Signed at Washington, D.C. this 11th day of February 2000.
Grant D. Beale,
Program Manager, Division of Trade Adjustment Assistance.

[FR Doc. 00-4129 Filed 2-18-00; 8:45 am]

BILLING CODE 4510-30-M